FEDERAL COMMUNICATIONS COMMISSION

47 CFR Part 73

[MB Docket No. 16-123; RM-11766; DA 16-711]

Television Broadcasting Services; Cordele, Georgia

AGENCY: Federal Communications Commission.

ACTION: Final rule.

SUMMARY: A petition for rulemaking was filed by Sunbelt-South Tele-Communications, Ltd. (Sunbelt), the licensee of WSST-TV, channel 51, Cordele, Georgia, requesting the substitution of channel 22 for channel 51 at Cordele. Sunbelt filed comments reaffirming its interest in the proposed channel substitution and stating that if the proposal is granted, it will promptly file an application for the facilities specified in the rulemaking petition and construct the station. Sunbelt asserts that adopting the proposal would serve the public interest because it would remove any potential interference with authorized wireless operations in the Lower 700 MHz A Block adjacent to channel 51 in Cordele. In addition, Sunbelt agrees that WSST-TV will be protected in the incentive auction at its channel 51 operating parameters even after its move to channel 22, and recognizes that as a result of repacking during the incentive auction, it may be required to move from channel 22.

DATES: This rule is effective August 8, 2016.

FOR FURTHER INFORMATION CONTACT: Joyce Bernstein, Joyce.Bernstein@fcc.gov, Media Bureau, (202) 418-1647.

SUPPLEMENTARY INFORMATION: This is a synopsis of the Commission's Report and Order, MB Docket No. 16-123, adopted June 28, 2016, and released June 28, 2016. The full text of this document is available for public inspection and copying during normal business hours in the FCC's Reference Information Center at Portals II, CY-A257, 445 12th Street SW., Washington, DC, 20554. This document will also be available via ECFS (http://fjallfoss.fcc.gov/ecfs/). To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4). Provisions of the Regulatory Flexibility Act of 1980, see 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Barbara A. Kreisman,
Chief, Video Division, Media Bureau.

Final Rule

For the reasons discussed in the preamble, the Federal Communications Commission amends 47 CFR part 73 as follows:

PART 73—RADIO BROADCAST SERVICES

1. The authority citation for part 73 continues to read as follows:

Authority: 47 U.S.C. 154, 303, 334, 336, and 339.

§ 73.622 [Amended]

2. Section 73.622(i), the Post-Transition Table of DTV Allotments under Georgia is amended by removing channel 51 and adding channel 22 at Cordele.

[FR Doc. 2016-15970 Filed 7-6-16; 8:45 am]

BILLING CODE 6712-01-P